DEPARTMENT OF AGRICULTURE

Forest Service

Information Collection: Generic Clearance To Conduct Survey Improvement Projects

AGENCY: Forest Service, USDA.

ACTION: Notice; request for comment.

SUMMARY: In accordance with the Paperwork Reduction Act of 1995, the Forest Service is seeking comments from all interested individuals and organizations on a new generic information collection request, Generic Clearance to Conduct Survey Improvement Projects.

DATES: Comments must be received in writing on or before September 9, 2019 to be assured of consideration. Comments received after that date will be considered to the extent practicable.

ADDRESSES: Send written comments to Kenli Kim, National Program Leader for Social Science Research, Forest Service, 1400 Independence Ave. SW, Mailstop 1114, Washington, DC 20250-1114, or by electronic mail to kenli.kim@usda.gov, with “PRA comment” in the subject line. If comments are sent by electronic mail, the public is requested not to send duplicate written comments via regular mail. Please confine written comments to issues pertinent to the information collection request, explain the reasons for any recommended changes, and, where possible, reference the specific section or paragraph being addressed.

All timely and properly submitted comments, including names and addresses when provided, are placed in the record and are available for public inspection and copying. The public may inspect comments received on this information collection at the USDA Forest Service Headquarters, 201 14th St. SW, Washington, DC 20250 between the hours of 10:00 a.m. to 5:00 p.m. on business days. Those wishing to inspect comments should contact Kenli Kim to facilitate an appointment and entrance to the building.

FOR FURTHER INFORMATION CONTACT: Kenli Kim, National Program Leader for Social Science Research at the Forest Service, kenli.kim@usda.gov. Individuals who use telecommunication devices for the deaf (TDD) may call the Federal Relay Service (FRS) at 1-800-877-8339 twenty-four hours a day, every day of the year, including holidays.

SUPPLEMENTARY INFORMATION: Title: Generic Clearance for Survey Improvement Projects.

OMB Number: 0596-NEW.

Expiration Date of Approval: NEW.

Type of Request: NEW.

Abstract: The USDA Forest Service has broad responsibilities for caring for the forests and grasslands of the nation. In order to fulfill this mission, the Agency needs an accurate understanding of the range of views and preferences held by stakeholders regarding the management and conservation of forests and other natural resources. We do so through various information collections of social and economic data. The Forest Service requests approval from the Office of Management and Budget (OMB) for this generic clearance to allow the Forest Service to rigorously develop, test, and evaluate its survey instruments and other data collection instruments.

The Forest Service has instituted state-of-the art techniques to improve the quality and timeliness of surveys and related data collection and analyses, while simultaneously reducing respondents' workload and burden. The purpose of this generic clearance is to allow the Forest Service to evaluate, adopt, and use these state-of-the-art techniques to improve its current data collections on forest and natural land management. This clearance will also be used to aid in the development of new surveys and data collection methods. Additionally, the Forest Service anticipates the benefit of increased response rates through improved survey design, a goal tied directly to improving response rates and reducing non-response bias.

Estimate of Annual Burden on Respondents: 900 hours per year (2,700 hours for the 3 year period).

Type of Respondents: Individuals and households, state & local government representatives, tribal representatives, private sector businesses, and non-profit organizations.

Estimated Annual Number of Respondents: 2,500 per year.

Estimated Annual Number of Responses per Respondent: 1 response/respondent.

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology. The Forest Service will consider the comments received and amend the information collection request as appropriate. The final information collection request package will then be submitted to OMB for review and approval.

All comments received in response to this notice, including names and addresses when provided, will be a matter of public record. Comments will be summarized and included in the submission request for final Office of Management and Budget approval.

Dated: June 17, 2019.
Alexander L. Friend,
Deputy Chief, Research & Development.

[FR Doc. 2019-14685 Filed 7-9-19; 8:45 am]

BILLING CODE 3411-15-P